DEPARTMENT OF AGRICULTURE

Submission for OMB Review; Comment Request

March 7, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submissions@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collectin of information unless the collection of information displays a currently valid OMB control number and the agency informs potential persons who are to respond to the collection of information that such persons are not required to respond to the collection of information unless it displays a currently valid OMB control number.

Animal and Plant Health Inspection Service

Title: Importation of Restricted and Controlled Animal and Poultry Products and Byproducts, Organisms, and Vectors into the U.S.

OMB Control Number: 0579-0015.

Summary of Collection: Disease prevention is the most effective method for maintaining a healthy animal population and enhancing the Animal and Plant Health Inspection Service (APHIS) ability to compete in the world market of animals and animal products trade. The Veterinary Service, a program in APHIS enforces regulations that pertain to the importation of restricted animal byproducts and controlled materials into the United States and the prevention of foreign animal disease incursions into the United States. The regulations under which APHIS conducts these disease prevention activities are contained in title 9, chapter 1, subchapter D, parts 94, 95, and 122 of the Code of Federal Regulations. APHIS colelcts information using several forms.

Need and Use of the Information: APHIS will collect information to ensure that imported items do not present a disease risk to the livestock and poultry populations of the United States. The information collected will provide APHIS with critical information concerning the origin and history of the items destined for importation into the United States. Without the information, the United States would be at risk of an exotic disease incursion.

Description of Respondents: Business or other for-profit; Individuals or households; Not for-profit institutions; Local, or tribal Government.

Number of Respondents: 10,008.

Frequency of Responses: Recordkeeping; Reporting; On occasion.

Total Burden Hours: 32,000.

Ruth Brown,
Departmental Information Collection Clearance Officer.

[FR Doc. 05-4767 Filed 3-10-05; 8:45 am]

BILLING CODE 3410-34-M